DEPARTMENT OF AGRICULTURE

Forest Service

National Tree-Marking Paint Committee Meeting

AGENCY: Forest Service, USDA.

ACTION: Notice of meeting.

SUMMARY: The National Tree-Marking Paint Committee will meet in Flagstaff, Arizona on May 15-17, 2012. The purpose of the meeting is to discuss the activities related to improvements in, concerns about, and the handling and use of tree-marking paint by personnel of the Forest Service and the Department of the Interior, Bureau of Land Management.

DATES: The meeting will be held May 15-17, 2012, from 8 a.m. to 5 p.m.

ADDRESSES: The meeting will be held at the USDA Forest Service Rocky Mountain Research Station, Flagstaff Lab, 2500 South Pine Knoll Drive, Flagstaff, AZ. Persons who wish to file written comments before or after the meeting must send written comments to David Haston, Chairman, National Tree-marking Paint Committee, Forest Service, USDA, San Dimas Technology and Development Center, 444 East Bonita Avenue, San Dimas, California 91773, or electronically to dhaston@fs.fed.us.

FOR FURTHER INFORMATION CONTACT: David Haston, Sr. Project Leader, San Dimas Technology and Development Center, Forest Service, USDA, (909) 599-1267, extension 294 or dhaston@fs.fed.us.

SUPPLEMENTARY INFORMATION: The National Tree-Marking Paint Committee comprises representatives from the Forest Service national headquarters, each of the nine Forest Service regions, the Forest Service San Dimas Technology and Development Center, the National Federation of Federal Employees and the Bureau of Land Management. The Forest Products Laboratory and the National Institute for Occupational Safety and Health are ad hoc members and provide technical advice to the committee.

A field trip will be held on May 15 and is designed to supplement information related to tree-marking paint. This trip is open to any member of the public participating in the public meeting on May 16-17. However, transportation is provided only for committee members.

The main session of the meeting, which is open to public attendance, will be held on May 16-17.

Closed Sessions

While certain segments of this meeting are open to the public, there will be two closed sessions during the meeting. The first closed session is planned for approximately 10 a.m. to 12:00 noon on May 16, 2012. This session is reserved for individual paint manufacturers to present products and information about tree-marking paint for consideration in future testing and use by the agency. Paint manufacturers also may provide comments on tree-marking paint specifications or other requirements. This portion of the meeting is open only to paint manufacturers, the Committee, and committee staff to ensure that trade secrets will not be disclosed to other paint manufacturers or to the public. Paint manufacturers wishing to make presentations to the Tree-Marking Paint Committee during the closed session should contact the committee chairperson at the telephone number listed at FOR FURTHER INFORMATION in this notice. The second closed session is planned for approximately 9 a.m. to 11 a.m. on May 17, 2012. This session is reserved for Tree-Marking Paint Committee members only.

Any person with special access needs should contact the Chairperson to make those accommodations. Space for individuals who are not members of the National Tree-Marking Paint Committee is limited and will be available to the public on a first-come, first-served basis.

Dated: March 30, 2012.
Faye L. Krueger,
Associate Deputy Chief, National Forest System.

[FR Doc. 2012-8248 Filed 4-4-12; 8:45 am]

BILLING CODE 3410-11-P